ENVIRONMENTAL PROTECTION AGENCY

[ER-FRL-8995-9]

Environmental Impacts Statements; Notice of Availability

Responsible Agency: Office of Federal Activities, General Information (202) 564-1399 or http://www.epa.gov/compliance/nepa/.

Weekly Receipt of Environmental Impact Statements

Filed 03/07/2011 Through 03/11/2011.

Pursuant to 40 CFR 1506.9.

Notice

In accordance with Section 309(a) of the Clean Air Act, EPA is required to make its comments on EISs issued by other Federal agencies public. Historically, EPA met this mandate by publishing weekly notices of availability of EPA comments, which includes a brief summary of EPA's comment letters, in the Federal Register. Since February 2008, EPA has included its comment letters on EISs on its Web site at: http://www.epa.gov/compliance/nepa/eisdata.html. Including the entire EIS comment letters on the Web site satisfies the Section 309(a) requirement to make EPA's comments on EISs available to the public. Accordingly, on March 31, 2010, EPA discontinued the publication of the notice of availability of EPA comments in the Federal Register.

EIS No. 20110076, Draft Supplement, USFS, MT, Grizzly Vegetation and Transportation Management Project, Updated and Additional Information, Proposes Timber Harvest, Prescribed Burning, Road Maintenance, and Transportation Management Actions, Three Rivers Ranger District, Kootenai National Forest, Lincoln County, MT, Comment Period Ends: 05/02/2011, Contact: Kathy Mohar 406-295-4693.

EIS No. 20110077, Draft EIS, USFS, SD, Section 30 Limestone Mining Project, Proposal to Implement Mining Actions, Mystic Ranger District, Black Hills National Forest, Rapid City, Pennington County, SD, Comment Period Ends: 05/02/2011, Contact: Robert J. Thompson 605-343-1567.

EIS No. 20110078, Draft EIS, USACE, HI, Honolulu Seawater Air Conditioning Project, Proposal to Construct a Seawater Air Conditioning System, US COE Section 10 and 404 Permits, City and County of Honolulu, HI, Comment Period Ends: 05/02/2011, Contact: Peter Galloway 808-438-8416.

EIS No. 20110079, Draft EIS, NPS, CA, Extension of F-Line Streetcar Service to Fort Mason Center Project, To Provide Park Visitors and Transit Dependent Residents with High-Quality Rail Transit that Improves Transportation Access and Mobility, Golden Gate National Recreation Area, San Francisco Maritime National Historical Park, CA, Comment Period Ends: 05/16/2011, Contact: Rick Foster 415-561-2872.

EIS No. 20110080, Draft EIS, USN, WA, Trident Support Facilities Explosives Handling Wharf (EHW-2), Construction and Operating, Naval Base Kitsap Banorg, Silverdale, WA, Comment Period Ends: 05/02/2011, Contact: Christine Stevenson 360-396-0080.

EIS No. 20110081, Draft EIS, NRCS, UT, Logan Northern Canal Reconstruction Project, To Construct a System that will Safely Restore Delivery of Water, City of Logon, Cache County, UT, Comment Period Ends: 05/02/2011, Contact: Bronson Smart 801-524-4559.

EIS No. 20110082, Draft EIS, DOE, TX, Texan Clean Energy Project, Construction and Operation of a Coal-Based Electric Power Generation and Chemicals Production Plant, Odessa, Ector County, TX, Comment Period Ends: 05/02/2011, Contact: Mark L. McKoy 1-800-432-8330 Ext 4426.

EIS No. 20110083, Final EIS, USFS, MT, Beaver Creek Landscape Management Project, Vegetation Treatment, Implementation, Ashland Ranger District, Custer National Forest, Powder River County, MT, Review Period Ends: 04/18/2011, Contact: Walt Allen 406-784-2344.

Amended Notices

EIS No. 20100466, Draft EIS, BLM, 00, PROGRAMMATIC—Solar Energy Development in Six Southwestern States, To Establish a New BLM Solar Energy Program applicable to Utility-Scale Solar Energy Development and DOE's Proposed Action to Develop new Program Guidance Relevant to DOE Supported Solar Project, AZ, CA, CO, NV, NM and UT, Comment Period Ends: 04/15/2011, Contact: Linda Resseguie 202-912-7337. Revision to FR Notice Published 12/17/2010: Extending Comment Period from 03/17/2011 to 04/15/2011.

Dated: March 15, 2011.
Robert W. Hargrove,
Director, NEPA Compliance Division, Office of Federal Activities.

[FR Doc. 2011-6405 Filed 3-17-11; 8:45 am]

BILLING CODE 6560-50-P